DEPARTMENT OF DEFENSE

Office of the Secretary

[Docket ID DoD-2014-OS-0029]

Privacy Act of 1974; System of Records

AGENCY: Defense Finance and Accounting Service, DoD.

ACTION: Notice to amend a System of Records.

SUMMARY: The Defense Finance and Accounting Service is amending a system of records notice, T-7305, entitled “Departmental Cash Management System (DCMS) Records” in its existing inventory of record systems subject to the Privacy Act of 1974, as amended. This system manages and reconciles cash disbursements, reimbursements, collections, and receipts department-wide.

DATES: Comments will be accepted on or before April 10, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, (317) 510-4591.

SUPPLEMENTARY INFORMATION: The Defense Finance and Accounting Service systems of records notices subject to the Privacy Act of 1974 (5 U.S.C. 552a), as amended, have been published in the Federal Register and are available from the address in FOR FURTHER INFORMATION CONTACT or from the Defense Privacy and Civil Liberties Office Web site at http://dpclo.defense.gov/. The proposed amendment is not within the purview of subsection (r) of the Privacy Act of 1974 (5 U.S.C. 552a), as amended, which requires the submission of a new or altered system report.

Dated: March 5, 2014.
Aaron Siegel,
Alternate OSD Federal Register Liaison Officer, Department of Defense.

T-7305

System name:

Departmental Cash Management System (DCMS) Records (October 1, 2008, 73 FR 57067)

Changes:

System ID:

Delete entry and replace with “T7305.”

* * * * *

System location:

Delete entry and replace with “Defense Information Systems Agency, Defense Enterprise Computing Center, Ogden, 7879 Wardleigh Road, Hill Air Force Base, Utah 84058-5997.

Defense Information Systems Agency, Defense Enterprise Computing Center, Mechanicsburg, Bldg 308, Naval Support Activity (NSA), 5450 Carlisle Pike, Mechanicsburg, PA 17050-2411.

Defense Finance and Accounting Service, DFAS-Limestone, 27 Arkansas Road, Limestone, ME 04751-1500.

Defense Finance and Accounting Service, DFAS-Japan, Building 206 Unit 5220, APO AP 96328-5220.

Defense Finance and Accounting Service, DFAS-Columbus, 3990 East Broad St, Columbus, OH 43213-1152.

Defense Finance and Accounting Service, DFAS-Indianapolis, 8899 East 56TH Street, Indianapolis, IN 46249-0100.

Secretary of the Air Force, SAF/FMBMB-AFO, 201 12TH Street Suite 512B, Arlington, VA 22202-5408.”

Categories of individuals covered by the system:

Delete entry and replace with “United States Air Force (USAF), Army, Navy, Marine Corps, active, reserve, and guard members and National Geospatial-Intelligence Agency civilian employees, Department of Defense (DoD) civilian employees, paid by appropriated funds and whose pay is processed by the Defense Finance and Accounting Service.”

* * * * *

Safeguards:

Delete entry and replace with “Records are maintained in a controlled facility. Physical entry is restricted by the use of locks, guards, and is accessible only to authorized personnel. Access to records is limited to person(s) responsible for servicing the record in performance of their official duties and who are properly screened and cleared for need-to-know. Access to computerized data is limited to CAC enabled users and restricted by passwords, which are changed according to agency security policy.”

* * * * *

System Manager(s) and address:

Delete entry and replace with “DCMS System Manager, Defense Finance and Accounting Service-Columbus, 3390 East Broad Street, Columbus, OH 43213-1152.”

Notification procedure:

Delete entry and replace with “Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address for reply, and provide a reasonable description of what they are seeking.”

Record access procedures:

Delete entry and replace with “Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, SSN for verification, current address for reply, and telephone number.”

Contesting record procedures:

Delete entry and replace with “The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.”

* * * * *

[FR Doc. 2014-05155 Filed 3-10-14; 8:45 am]

BILLING CODE 5001-06-P